DEPARTMENT OF TRANSPORTATION

Federal Highway Administration

Notice of Final Federal Agency Actions on State Highway 288 in Texas

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed highway project, State Highway 288, from (US) 59 south of downtown Houston, Harris County to County Road (CR) 60 in Brazoria County, Texas. Those actions grant licenses, permits, and approvals for the project.

DATES: By this notice, the FHWA is advising the public of final agency actions subject to 23 U.S.C. 139(l)(1). A claim seeking judicial review of the Federal agency actions on the highway project will be barred unless the claim is filed on or before February 20, 2014. If the Federal law that authorizes judicial review of a claim provides a time period of less than 150 days for filing such claim, then that shorter time period still applies.

FOR FURTHER INFORMATION CONTACT: Mr. Gregory Punske, P.E., District Engineer, District B (South), Federal Highway Administration, 300 East 8th Street, Room 826, Austin, Texas 78701; telephone: (512) 536-5960; email: gregory.punske@fhwa.dot.gov. The FHWA Texas Division Office's normal business hours are 7:45 a.m. to 4:15 p.m. (central time) Monday through Friday. You may also contact Mr. Carlos Swonke, Environmental Affairs Division, Texas Department of Transportation, 118 E. Riverside Drive, Austin, Texas 78704; telephone: (512) 416-2734; email: Carlos.Swonke@txdot.gov. The Texas Department of Transportation normal business hours are 8 a.m. to 5 p.m. (central time) Monday through Friday.

SUPPLEMENTARY INFORMATION: Notice is hereby given that the FHWA and other Federal agencies have taken final agency actions by issuing licenses, permits, and approvals for the following highway project in the State of Texas: State Highway (SH) 288 from (US) 59 south of downtown Houston, Harris County to County Road (CR) 60 in Brazoria County. The project will be a 41.8 km (26 mi) long. It will begin at US 59 in Harris County and then proceed south through Brazoria County and end at CR 60. The proposed improvements will be constructed in phases. The interim phase (Phase 1) of the project will involve the construction of two toll lanes from US 59 to State Highway (SH) 6 and direct connector (DC) improvements at Beltway (BW) 8, new overpasses at selected, existing at-grade intersections (part of the toll facility) and some ramp and frontage road improvements. The ultimate project (Phase 2) will add two additional toll lanes from US 59 to SH 6, providing a total of four toll lanes (two in each direction); add one additional general-purpose lane in each direction from Interstate Highway (IH) 610 to BW 8, resulting in a total of four general-purpose lanes in each direction; and will extend four toll lanes from SH 6 southward to CR 60. Direct-connector improvements at IH 610 and BW 8, and new overpasses at selected, existing at-grade intersections (part of the toll facility) will be constructed during the ultimate phase of the project. If funding becomes available, the ultimate (Phase 2) configuration will be constructed along with the interim (Phase 1). The purpose of the project is to is to alleviate congestion along the SH 288 corridor from US 59 to CR 60 and to improve access to the Texas Medical Center.

The actions by the Federal agencies, and the laws under which such actions were taken, are described in the Environmental Assessment (EA) for the project, approved for further processing on January 23, 2013, in the FHWA Finding of No Significant (FONSI) issued on May 23, 2013, and in other documents in the FHWA project files. The EA, FONSI, and other documents in the FHWA project file are available by contacting the FHWA or the Texas Department of Transportation at the addresses provided above. The FHWA EA and FONSI can be viewed and downloaded from the following Web site: http://www.txdot.gov/inside-txdot/projects/studies/houston/sh288.html.

This notice applies to all Federal agency decisions as of the issuance date of this notice and all laws under which such actions were taken, including but not limited to:

1. General: National Environmental Policy Act (NEPA) [42 U.S.C. 4321-4335]; Federal-Aid Highway Act [23 U.S.C. 109].

2. Air: Clean Air Act, 42 U.S.C. 7401-7671(q).

3. Land: Section 4(f) of the Department of Transportation Act of 1966 [49 U.S.C. 303]; Uniform Relocation and Real Property Acquisition Policies Act of 1970 [42 U.S.C. 4601-4655].

4. Wildlife: Endangered Species Act [16 U.S.C. 1531-1544] Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-(ll)]; Archeological and Historic Preservation Act [16 U.S.C. 469-469(c)].

6. Social and Economic: Civil Rights Act of 1964 [42 U.S.C. 2000(d)-2000(d)(1)]; Farmland Protection Policy Act (FPPA) [7 U.S.C. 4201-4209].

7. Wetlands and Water Resources: Clean Water Act, 33 U.S.C. 1251-1387; Land and Water Conservation Fund (LWCF), 16 U.S.C. 4601-4604.

8. Executive Orders: E.O. 11990 Protection of Wetlands; E.O. 13112 on Invasive Species, E.O. 12898 on Federal Actions to Address Environmental Justice in Minority Populations and Low Income Populations; E.O. 13166 Improving Access to Services for Persons with Limited English Proficiency (LEP).

(Catalog of Federal Domestic Assistance Program Number 20.205, Highway Planning and Construction. The regulations implementing Executive Order 12372 regarding intergovernmental consultation on Federal programs and activities apply to this program.)

Authority: 23 U.S.C. 139(l)(1).

Issued on: September 9, 2013.
Gregory S. Punske,
District Engineer.

[FR Doc. 2013-22548 Filed 9-20-13; 8:45 am]

BILLING CODE 4910-RY-P